DEPARTMENT OF TRANSPORTATION

Federal Highway Administration

23 CFR Part 490

[FHWA Docket No. FHWA-2017-0025]

RIN 2125-AF776

National Performance Management Measures; Assessing Performance of the National Highway System, Freight Movement on the Interstate System, and Congestion Mitigation and Air Quality Improvement Program

AGENCY: Federal Highway Administration (FHWA), DOT.

ACTION: Notice of proposed rulemaking; extension of comment period.

SUMMARY: The FHWA is extending the comment period for a notice of proposed rulemaking (NPRM) and request for comments, which was published on October 5, 2017. The original comment period is set to close on November 6, 2017. The extension is based on concern expressed by stakeholders that this closing date does not provide sufficient time to review and provide comprehensive comments on the proposal. The FHWA recognizes that others interested in commenting may have similar concerns, but is mindful of commenters who have expressed opposition to a lengthy rulemaking process. Therefore, the closing date for comments is extended, which will provide stakeholders interested in commenting additional time to submit responses to the docket.

DATES: The comment period for the proposed rule published October 5, 2017, at 82 FR 46427, is extended. Comments must be received on or before November 15, 2017.

ADDRESSES: Mail or hand deliver comments to the U.S. Department of Transportation, Dockets Management Facility, 1200 New Jersey Avenue SE., Washington, DC 20590, or submit electronically at http://www.regulations.gov. All comments should include the docket number that appears in the heading of this document. All comments received will be available for examination and copying at the above address from 8 a.m. to 4:30 p.m., ET, Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: Susanna Hughes-Reck, Office of Infrastructure, (202) 366-1548, or Janet Myers, Office of Chief Counsel, (202) 366-2019, Federal Highway Administration, 1200 New Jersey Avenue SE., Washington, DC 20590-0001. Office hours are from 8 a.m. to 4:30 p.m. ET, Monday through Friday, except Federal holidays.

SUPPLEMENTARY INFORMATION:

Electronic Access and Filing

You may submit or access all comments received by DOT online through: http://www.regulations.gov. Electronic submission and retrieval help and guidelines are available on the Web site. It is available 24 hours each day, 365 days each year. Please follow the instructions. An electronic copy of this document may also be downloaded from the Federal Register's home page at: http://www.federalregister.gov.

Background

Section 150 of title 23, U.S.C., identifies the national transportation goals and requires the Secretary by rule to establish performance measures in specified Federal-aid highway program areas. One of the measures FHWA created to assess the performance of the NHS under the National Highway Performance Program (NHPP) is Percent Change in Tailpipe Carbon Dioxide (CO2) Emissions on the NHS from the Calendar Year 2017 (also referred to as the GHG measure). It was created to advance a policy preference of the prior Administration. On October 5th at 82 FR 46427, FHWA published an NPRM proposing to repeal the measure.

The original comment period for the NPRM closes on November 6, 2017. Clean Air Carolina, Natural Resources Defense Council, Southern Environmental Law Center, U.S. Public Interest Research Group, and The City of New York Law Department have expressed concern that this closing date does not provide sufficient time to review and provide comprehensive comments on the proposal. The FHWA is mindful, however, of requests by the State Department of Transportation of Michigan, Idaho, Montana, North Dakota, South Dakota, Wyoming, and Missouri to complete the rulemaking as expeditiously as possible to provide them certainty in their investment and programming activities. As such, FHWA is extending the closing date from November 6, 2017, to November 15, 2017.

Authority: 23 U.S.C. 104(b)(1), 119, and 150.

Brandye L. Hendrickson,
Acting Administrator, Federal Highway Administration.

[FR Doc. 2017-24345 Filed 11-3-17; 4:15 pm]

BILLING CODE 4910-22-P